DEPARTMENT OF AGRICULTURE

Agricultural Marketing Service

[Docket No. AMS-LPS-17-0046]

United States Standards for Grades of Pork Carcasses

AGENCY: Agricultural Marketing Service, USDA .

ACTION: Notice; reopening of comment period.

SUMMARY: The U.S. Department of Agriculture's (USDA) Agricultural Marketing Service (AMS) is reopening the comment period on the notice requesting comments on revisions to the United States Standards for Grades of Pork Carcasses (pork standards) published in the Federal Register (82 FR 48971) on October 23, 2017. The comment period for this notice closed on December 22, 2017. The revisions are intended to modernize the standards and meet stakeholder demands by segregating the population of commodity pork products into uniform groups (of similar quality, value, etc.) that can facilitate the production and marketing of pork and deliver certain eating expectations for the consumer.

DATES: Comments on the notice published in the Federal Register (82 FR 48971) on October 23, 2017, must be received by March 19, 2018.

ADDRESSES: Interested persons are invited to submit comments electronically at https://www.regulations.gov. Written comments should be sent to: Pork Carcass Revisions, Standardization Branch, Quality Assessment Division; Livestock, Poultry, and Seed Program, AMS, USDA; 1400 Independence Ave. SW, Room 3932-S, STOP 0258, Washington, DC 20250-0258. Comments may also be emailed to porkcarcassrevisions@ams.usda.gov. All comments should reference docket number AMS-LPS-17-0046, the date of submission, the page numbers of this issue, and the October 23, 2017, issue of the Federal Register. All comments received will be posted without change, including any personal information provided, and they will be made available for public inspection at the above physical address during regular business hours.

FOR FURTHER INFORMATION CONTACT: Bucky Gwartney, International Marketing Specialist, Standardization Branch, Quality Assessment Division, Livestock, Poultry, and Seed Program, AMS, USDA; 1400 Independence Avenue SW, Room 3932-S, STOP 0258, Washington, DC 20250-0258; phone (202) 720-1424; or via email at Bucky.Gwartney@ams.usda.gov.

SUPPLEMENTARY INFORMATION: A notice was published in the Federal Register (82 FR 48971) on October 23, 2017, requesting comments on revisions to the pork standards. The 60-day comment period provided in the notice closed on December 22, 2017. Trade organizations submitted comments requesting a 60-day extension to enable industry stakeholders more time to evaluate the proposed changes and to submit comments. Therefore, AMS is reopening the comment period for the notice until March 19, 2018. AMS is reopening the public comment period to ensure that interested persons have sufficient time to review and comment on the notice.

Dated: January 10, 2018.
Bruce Summers,
Acting Administrator, Agricultural Marketing Service.

[FR Doc. 2018-00627 Filed 1-16-18; 8:45 am]

BILLING CODE 3410-02-P